DEPARTMENT OF ENERGY

Federal Energy Regulatory Commission

[Project Nos. 2375-101; 8277-069]

Verso Androscoggin LLC, Verso Androscoggin Power LLC; Notice of Application for Transfer of Licenses and Soliciting Comments and Motions To Intervene

On January 22, 2014, Verso Androscoggin LLC (transferor) and Verso Androscoggin Power LLC (transferee) filed an application for transfer of licenses of the Riley-Jay-Livermore Project located on the Androscoggin River at the junction of Franklin, Androscoggin, and Oxford counties, Maine, and the Otis Hydroelectric Project located on the Androscoggin River, in Franklin and Androscoggin counties, Maine.

The transferor and transferee seek Commission approval to transfer the licenses for the Riley-Jay-Livermore Project and the Otis Hydroelectric Project from the transferor to the transferee.

Applicant Contacts: For Transferor: Mr. Peter Kesser, Senior Vice President, General Counsel and Secretary, Verso Paper Corp., 6775 Lenox Center Court, Suite 400, Memphis, TN 38115-4436, Phone: (901) 369-4105, Email: peter.kesser@versopaper.com. For Transferee: Mr. Robert C. Fallon, Stinson Leonard Street LLP, 1775 Pennsylvania Ave. NW., Suite 800, Washington, DC 20006, Phone: (202) 969-4210, Email: fallonr@stinsonleonard.com.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2375-101 or P-8277-069.

Dated: January 29, 2014.
Kimberly D. Bose,
Secretary.

[FR Doc. 2014-02375 Filed 2-4-14; 8:45 am]

BILLING CODE 6717-01-P